ENVIRONMENTAL PROTECTION AGENCY

[R01-OW-2020; FRL-10012-96-Region 1]

Program Requirement Revisions Related to the Public Water System Supervision Programs for the Commonwealth of Massachusetts, the State of Connecticut and the State of New Hampshire

AGENCY: Environmental Protection Agency (EPA).

ACTION: Notice.

SUMMARY: Notice is hereby given that the Commonwealth of Massachusetts, the State of Connecticut and the State of New Hampshire are revising their respective approved Public Water System Supervision (PWSS) programs to meet the requirements of the Safe Drinking Water Act (SDWA).

DATES: All interested parties may request a public hearing for any of the above EPA determinations. A request for a public hearing must be submitted by September 2, 2020, to the Regional Administrator at the address shown below. Frivolous or insubstantial requests for a hearing may be denied by the Regional Administrator.

However, if a substantial request for a public hearing is made by this date, a public hearing will be held. If no timely and appropriate request for a hearing is received, and the Regional Administrator does not elect to hold a hearing on his/her own motion, this determination shall become final and effective September 2, 2020.

Any request for a public hearing shall include the following information: (1) The name, address, and telephone number of the individual organization, or other entity requesting a hearing; (2) a brief statement of the requesting person's interest in the Regional Administrator's determination; (3) information that the requesting person intends to submit at such hearing; and (4) the signature of the individual making the request, or if the request is made on behalf of an organization or other entity, the signature of a responsible official of the organization or other entity.

ADDRESSES: All documents relating to this determination are available for inspection between the hours of 8:30 a.m. and 4:00 p.m., Monday through Friday, at the following office(s): U.S. Environmental Protection, Water Division, 5 Post Office Square, Suite 100, Boston, MA 02109-3912.

For state-specific documents:

Commonwealth of Massachusetts, Drinking Water, One Winter Street, Boston, MA 02108

Connecticut Department of Public Health, Drinking Water Section, 410 Capital Avenue, Hartford, CT 06134

New Hampshire Department of Environmental Services, Drinking Water and Groundwater Bureau, 29 Hazen Drive, Concord, NH 03302-0095

FOR FURTHER INFORMATION CONTACT: Jeri Weiss, U.S. EPA-New England, Water Division, telephone (617) 918-1568.

SUPPLEMENTARY INFORMATION: The Commonwealth of Massachusetts has adopted a drinking water regulation for the Arsenic Rule (66 FR 6976) promulgated on January 22, 2001. After review of documentation submitted by the Commonwealth, the Environmental Protection Agency (EPA) has determined that the Commonwealth's Arsenic Rule is no less stringent than the corresponding federal regulation, with the understanding that the Commonwealth's regulation includes a typographical error that the Commonwealth has agreed to correct. EPA considers this issue to be minor and believes it should not preclude granting the Commonwealth primacy for the reasons detailed below.

The Commonwealth of Massachusetts revised its Drinking Water Regulations for Arsenic promulgated at 310 CMR 22.06, 310 CMR 22.07A, and 310 CMR 22.07B effective December 6, 2002. Under federal regulations, the arsenic Maximum Contaminant Level (MCL) is 0.01 mg/l. The Commonwealth's regulation contains the correct value for the arsenic MCL. However, there is a typographical error in the Commonwealth's public notice requirements at 310 CMR 22.16 Table 7.C., Standard Health Effects Language for Public Notification. In that table, the Commonwealth erroneously lists the MCL for arsenic as 0.05 mg/l when it should read 0.01 mg/l. MCL. Despite the typographical error, the Commonwealth issues reports based on exceedances of the correct value for the arsenic MCL. The Commonwealth has indicated that it will correct the typographical error in its upcoming regulatory revision later this year. Therefore, EPA intends to approve the Commonwealth's PWSS program revision for its Arsenic rule.

The State of Connecticut has adopted a drinking water regulation for the Consumer Confidence Report Rule (63 FR 44511) promulgated on August 19, 1998, the Interim Enhanced Surface Water Treatment Rule (63 FR 69478-69521) promulgated on December 16, 1998, and the Long Term 1 Enhanced Surface Water Treatment Rule (67 FR 1812) promulgated on January 14, 2002. After review of the documentation submitted by the State, EPA has determined that the State of Connecticut's regulation for these three drinking water rules is no less stringent than the corresponding federal regulations. EPA intends to approve Connecticut's PWSS program revision for these three rules.

The State of New Hampshire has adopted a drinking water regulation for the Arsenic Rule (66 FR 6976) promulgated on January 22, 2001. After review of the documentation submitted by the State, EPA has determined that the state of New Hampshire's rule is no less stringent than the corresponding federal regulation. EPA's primary enforcement responsibility regulations require states that accept electronic documents from public water systems to have adopted regulations consistent with 40 CFR part 3 (electronic reporting). New Hampshire accepts electronic documents and is in the process of completing elements of its electronic reporting program that will supplement the State's already existing legal authority under the State's Uniform Electronic Transactions Act. Therefore, EPA intends to approve New Hampshire's PWSS program revision for its Arsenic rule.

(Authority: Section 1401 (42 U.S.C 300f) and Section 1413 (42 U.S.C 300g-2) of the Safe Drinking Water Act, as amended (1996), and (40 CFR 142.10) of the National Primary Drinking Water Regulations)

Dated: July 27, 2020.
Dennis Deziel,
Regional Administrator, EPA Region 1—New England.

[FR Doc. 2020-16726 Filed 7-31-20; 8:45 am]

BILLING CODE 6560-50-P